DEPARTMENT OF THE INTERIOR

U.S. Geological Survey

[WBS Number GX17EF00PMEXP00]

Agency Notice of Webinar; Announcement of U.S. Geological Survey (USGS), National Geospatial Program (NGP) 3D Elevation Program (3DEP) FY17 Informational Training Webinars in Preparation for the Upcoming Release of the USGS Broad Agency Announcement (BAA) for 3D Elevation Program (3DEP)

AGENCY: U.S. Geological Survey, Interior.

ACTION: Notice.

SUMMARY: The U.S. Geological Survey is proposing program sponsored informational training webinars to provide scripted training to prospective applicants. This 3D Elevation Program (3DEP) training has been developed to encourage applications from federal agencies, states, tribes and communities across the nation to support the acquisition of high-quality topographic data and a wide range of other three-dimensional representations of the Nation's natural and constructed features.

DATES: The USGS BAA for 3DEP FY17 Informational Training Webinars will be held on August 10, 2017, 1:00-2:30 p.m. ET, and August 17, 2017, 3:00-4:30 p.m. ET.

ADDRESSES: Informational training webinar information is available at https://nationalmap.gov/3DEP/FY18BAA.html.

FOR FURTHER INFORMATION CONTACT: For further information about this webinar contact Diane Eldridge by email at gs_baa@usgs.gov, or by telephone at (703) 648-4521.

SUPPLEMENTARY INFORMATION: The primary goal of 3DEP is to systematically collect enhanced elevation data in the form of high-quality light detection and ranging (lidar) data over the conterminous United States, Hawaii, and the U.S. territories, as well as interferometric synthetic aperture radar (ifsar) data over Alaska. The 3DEP initiative is based on the results of the National Enhanced Elevation Assessment (NEEA), which indicated an optimal benefit to cost ratio for Quality Level 2 (QL2) data collected over 8-years to complete national coverage. The implementation model for 3DEP is based on multi-agency partnership funding for topographic data acquisition, with the USGS acting in a lead program management role to facilitate planning and acquisition for the broader community, through the use of government contracts and partnership agreements. The annual Broad Agency Announcement (BAA) is a competitive solicitation issued to facilitate the collection of lidar and derived elevation data for the 3D Elevation Program (3DEP). It has been included in the annual Catalog of Domestic Federal Assistance under USGS 15.8 17. Federal agencies, state and local governments, tribes, academic institutions and the private sector are eligible to submit proposals. The 3DEP informational training webinars will introduce this opportunity to the wide array of prospective applicants and provide a summary of the BAA application procedures. Advanced Registration is required. National Webinars will be recorded and made available for viewing.

Paul Wiese,
Acting Deputy Director, National Geospatial Program.

[FR Doc. 2017-16541 Filed 8-4-17; 8:45 am]

BILLING CODE 4338-11-P